DEPARTMENT OF HEALTH AND HUMAN SERVICES

Centers for Disease Control and Prevention

[30Day-16-0650]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Prevention Research Centers Program National Evaluation Reporting System (OMB No. 0920-0650, exp. 5/31/2016)—Revision—National Center for Chronic Disease Prevention and Health Promotion (NCCDPHP), Centers for Disease Control and Prevention (CDC).

Background and Brief Description

In 1984, Congress passed Public Law 98-551 directing the Department of Health and Human Services (DHHS) to establish Centers for Research and Development of Health Promotion and Disease Prevention. In 1986, the CDC received lead responsibility for this program, referred to as the Prevention Research Centers (PRC) Program. PRC Program awardees are managed as a CDC cooperative agreement with awards made for five years.

In 2013, the CDC published program announcement DP14-001 for the current PRC Program funding cycle (September 30, 2014-September 29, 2019). Twenty-six PRCs were selected through a competitive, external, peer-review process; the program is currently in its second year of the five year funding cycle.

Each PRC is housed within an accredited school of public health or an accredited school of medicine or osteopathy with a preventive medicine residency program. The PRCs conduct outcomes-oriented, applied prevention research on a broad range of topics using a multi-disciplinary and community-engaged approach. Each PRC receives funding from the CDC to establish its core infrastructure and functions and support a core research project. In addition to core research projects, most PRCs are awarded funding to complete special interest projects (SIPs) and conduct other research projects.

The DP14-001 program announcement included language that was used to develop and operationalize a set of 25 PRC Program evaluation indicators. The PRC Program logic model identifies program inputs, activities, outputs, and outcomes. The list of indicators was revised to better reflect program needs and capture PRCs' center and research activities, outputs, and outcomes.

The CDC is currently approved to collect information from the PRCs through a structured telephone interview and a web-based survey hosted by a third-party. The web-based survey is designed to collect information on the PRCs' collaborations with health departments; formal training programs and other training activities; and other-funded research projects conducted separate from their core projects or SIP research. Structured telephone interviews with key PRC informants allow PRC Program staff to collect indicator data that do not lend themselves to a survey-based methodology and require a qualitative approach.

CDC requests OMB approval to revise the information collection plan as follows:

(1) The content of the web-based survey will be updated to more closely align with revised evaluation indicators. In addition, the web-based survey will be migrated from a third party platform to a web-based data collection system hosted on CDC servers. Although the estimated burden per response will increase, the revised data collection system will be comprehensive and will reduce the need for follow-up clarification by PRC Program awardees.

(2) CDC will discontinue telephone interviews and conduct key informant interviews (KII) every other year to capture qualitative information about PRC Network formation and cohesion.

CDC will continue to use the information reported by PRCs to identify training and technical assistance needs, respond to requests for information from Congress and other sources, monitor grantees' compliance with cooperative agreement requirements, evaluate progress made in achieving goals and objectives, and describe the impact and effectiveness of the PRC Program.

The CDC currently funds 26 PRCs. Each PRC will annually report the required information to the CDC. The annualized estimated burden is expected to increase. This increase equates to an estimated weekly burden of one hour per respondent and more fully accounts for the burden of preparing responses, as well as the burden of reporting responses. Web-based data collection will occur on an annual basis. The KIIs will take place in 2016 and 2018. This equates to two PRC Network KIIs per PRC Program awardee during the three year OMB approval period. Responses are annualized in the burden table below.

The proposed web-based data collection system will allow data entry during the entire year, which will enable respondents to distribute burden throughout each funding year. Response burden is expected to decrease in funding years 2 through 5, since the web-based data collection system will replicate a number of data elements from year-to-year, and respondents will only need to enter changes.

OMB approval is requested for three years. CDC plans to implement revised reporting requirements in March 2016. PRC Program awardees are required to participate in information collection. There are no costs to respondents other than their time. The total estimated annualized burden hours are 1,299.

Estimated Annualized Burden Hours
Type of respondent | Form name | Number of respondents | Number of responses per respondent | Average burden per response (in hrs.)
Prevention Research Center | Web-based Data Collection | 26 | 1 | 48
| Key Informant Interview: PRCs Network | 17 | 1 | 3

Leroy A. Richardson,
Chief, Information Collection Review Office, Office of Scientific Integrity, Office of the Associate Director for Science, Office of the Director, Centers for Disease Control and Prevention.

[FR Doc. 2016-00563 Filed 1-13-16; 8:45 am]

BILLING CODE 4163-18-P